GENERAL SERVICES ADMINISTRATION

41 CFR Parts 300-3, 301-10, 301-51, and 302-16

[FTR Case 2020-301-1; Docket No. GSA-FTR-2021-0017, Sequence No. 1]

RIN 3090-AK45

Federal Travel Regulation; Rental Car Policy Updates and Clarifications

AGENCY: Office of Government-wide Policy (OGP), General Services Administration (GSA).

ACTION: Proposed rule.

SUMMARY: This proposed rule would clarify that agencies can reimburse rental car fees (up to a certain number of days) for Outside the Continental United States (OCONUS) relocations as a miscellaneous expense allowance to account for privately owned vehicle (POV) shipping delays at the employee's new official station. The proposed rule also updates rental car insurance policy to state that the Government will pay for both collision damage waiver(s) and theft insurance on rental car used OCONUS and also clarifies that rental cars may be used for the same purposes as a Government vehicle (other than a Government aircraft). Finally, the proposed rule substitutes the terms “gas” and “gasoline” with the term “fuel” where appropriate. The term “fuel” is broader as it still includes gasoline as a fuel source and also encompasses alternate vehicle energy sources, like electricity. A definition of the term “Fuel” is added to the FTR.

DATES: Interested parties should submit written comments to the Regulatory Secretariat Division at the address shown below on or before November 12, 2021 to be considered in the formation of the final rule.

ADDRESSES: Submit comments in response to FTR case 2020-301-1 to: Regulations.gov: https://www.regulations.gov. Submit comments via the Federal eRulemaking portal by searching for “FTR Case 2020-301-1”. Select the link “Comment Now” that corresponds with FTR Case 2020-301-1. Follow the instructions provided at the “Comment Now” screen. Please include your name, company name (if any), and “FTR Case 2020-301-1” on your attached document. If your comment cannot be submitted using https://www.regulations.gov, call or email the points of contact in the FOR FURTHER INFORMATION CONTACT section of this document for alternate instructions.

Instructions: Please submit comments only and cite FTR Case 2020-301-1, in all correspondence related to this case. Comments received generally will be posted without change to https://www.regulations.gov, including any personal and/or business confidential information provided. To confirm receipt of your comment(s), please check www.regulations.gov, approximately two to three days after submission to verify posting.

FOR FURTHER INFORMATION CONTACT: For clarification of content, contact Mr. Ed Davis, Program Analyst, Office of Government-wide Policy, at 202-208-7638. Contact the Regulatory Secretariat Division (MVCB), 1800 F Street NW, 2nd Floor, Washington, DC 20405, 202-501-4755, for information pertaining to status or publication schedules. Please cite FTR Case 2020-301-1, Definition for “Fuel”, Rental Car Policy Updates and Clarifications.

SUPPLEMENTARY INFORMATION:

I. Background

Federal Travel Regulation (FTR) part 302-16 authorizes agencies to provide eligible employees a miscellaneous expenses allowance (MEA) to defray some of the costs incurred while relocating. A non-exhaustive list of examples of allowable miscellaneous expenses can be found at FTR 302-16.2.

While not specifically mentioned as an example of a reimbursable miscellaneous expense, the FTR allows for employees serving OCONUS to be reimbursed for rental car use while awaiting arrival of their POV due to shipment delay. The lack of specific mention of this type of miscellaneous expense in the FTR has caused agency confusion surrounding its authorization for reimbursement. Accordingly, this proposed rule would update the list of miscellaneous expenses examples in FTR 302-16.2 to explicitly include discretionary rental car reimbursement OCONUS, and add the caveat that such expense may only be authorized for up to 10 days, or until delivery of the POV, whichever occurs first.

To clarify a position that is in current practice, but not specifically stated in the FTR, a new paragraph (f) under FTR § 301-10.450 will be added stating that a rental car may be used for the same purposes as a Government vehicle (other than a Government aircraft) under FTR § 301-10.201.

As a general rule, employees authorized to rent a vehicle for official travel are not reimbursed the cost of collision damage waiver (CDW) or theft insurance. However, employees who are required to travel OCONUS may be reimbursed CDW or theft insurance, but not both, based on the current regulatory language (FTR § 301-10.451(b)). This proposed rule updates the FTR to reflect that both types of insurance can be paid when necessary.

Finally, the proposed rule removes the terms “gas” and “gasoline”, where appropriate, and replaces it with the term “fuel”, and further defines fuel to account for not only gasoline, but also other types of vehicle power sources, such as hydrogen, propane, and electricity.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not anticipated to be a significant regulatory action and, therefore, was not subject to review under Section 6(b) of E.O. 12866, Regulatory Planning and Review, dated September 30, 1993. As this proposed rule is not anticipated to be a “significant regulatory action,” GSA is not required to provide an economic analysis under Section 6(a) of E.O. 12866.

III. Congressional Review Act

This rule is not a major rule under 5 U.S.C. 804(2). Subtitle E of the Small Business Regulatory Enforcement Fairness Act of 1996 (codified at 5 U.S.C. 801-808), also known as the Congressional Review Act or CRA, generally provides that before a rule may take effect, the agency promulgating the rule must submit a rule report, which includes a copy of the rule, to each House of the Congress and to the Comptroller General of the United States. OIRA has determined that this proposed rule is not a “major rule” as defined by 5 U.S.C. 804(2).

IV. Regulatory Flexibility Act

GSA does not expect this proposed rule to have a significant economic impact on a substantial number of small entities within the meaning of the Regulatory Flexibility Act, 5 U.S.C. 601, et seq., because the changes are administrative in nature and only affect Government employees.

Therefore, an Initial Regulatory Flexibility Analysis has not been performed. GSA invites comments from small business concerns and other interested parties on the expected impact of this rule on small entities.

GSA will also consider comments from small entities concerning the existing regulations in subparts affected by the rule in accordance with 5 U.S.C. 610. Interested parties must submit such comments separately and should cite 5 U.S.C 610 (FTR Case 2020-301-1), in correspondence.

V. Paperwork Reduction Act

The Paperwork Reduction Act does not apply because the changes to the FTR do not impose recordkeeping or information collection requirements, or the collection of information from offerors, contractors, or members of the public that require the approval of the Office of Management and Budget (OMB) under 44 U.S.C. 3501, et seq.

List of Subjects in 41 CFR Parts 300-3, 301-10, 301-51, and 302-16

Government employees, Travel and transportation expenses.

Krystal J. Brumfield,
Associate Administrator, Office of Government-wide Policy.

For the reasons set forth in the preamble, GSA proposes to amend 41 CFR parts 300-3, 301-10, 301-51, and 302-16 as set forth below:

PART 300-3—GLOSSARY OF TERMS

1. The authority citation for part 300-3 continues to read as follows:

Authority: 5 U.S.C. 5707; 40 U.S.C. 121(c); 49 U.S.C. 40118; 5 U.S.C. 5738; 5 U.S.C. 5741-5742; 20 U.S.C. 905(a); 31 U.S.C. 1353; E.O. 11609, as amended; 3 CFR 1971-1975 Comp., p. 586, Office of Management and Budget Circular No. A-126, revised May 22, 1992.

2. Amend § 300-3.1 by adding a definition for “Fuel” in alphabetical order to read as follows:

§ 300-3.1 What do the following terms mean?

* * * * *

Fuel—The energy source needed to power a vehicle. Examples include, but are not limited to, petroleum, hydrogen, propane, and electricity.

* * * * *

PART 301-10—TRANSPORTATION EXPENSES

3. The authority citation for part 301-10 continues to read as follows:

Authority: 5 U.S.C. 5707, 40 U.S.C. 121(c); 49 U.S.C. 40118; Office of Management and Budget Circular No. A-126, “Improving the Management and Use of Government Aircraft.” Revised May 22, 1992.

4. Revise § 301-10.304 to read as follows:

§ 301-10.304 What expenses are allowable in addition to the POV mileage rate allowances?

Following is a chart listing the reimbursable and non-reimbursable expenses:

Table 1 to § 301-10.304
Reimbursable expenses in addition to mileage allowance | Non-reimbursable expenses included in the mileage allowance
Parking fees; ferry fees; bridge, road, and tunnel fees; and aircraft or airplane parking, landing, and tie-down fees | Charges for repairs, depreciation, replacements, grease, oil, antifreeze, towage and similar speculative expenses, fuel, insurance, state and Federal taxes.

§ 301-10.401 [Amended]

5. Amend § 301-10.401 by removing from paragraph (a) “Gasoline” and adding “Fuel” in its place.

§ 301-10.450 [Amended]

6. Amend § 301-10.450 by adding paragraph (f) to read as follows:

§ 301-10.450 What are the policies when authorized to rent a vehicle for official travel?

* * * * *

(f) A rental car may be used for the same purposes as a Government vehicle. See § 301-10.201.

7. Amend § 301-10.451 by revising paragraph (b) to read as follows:

§ 301-10.451 May I be reimbursed for the cost of collision damage waiver (CDW) or theft insurance?

* * * * *

(b) Exception. You will be reimbursed for CDW or theft insurance, or both, when you travel outside CONUS and such insurance is necessary because the rental or leasing agency requirements, foreign statute, or legal procedures could cause extreme difficulty for an employee involved in an accident.

PART 301-51—PAYING TRAVEL EXPENSES

9. The authority citation for part 301-51 continues to read as follows:

Authority: 5 U.S.C. 5707. Subpart A is issued under the authority of Sec. 2, Pub. L. 105-264, 112 Stat 2350 (5 U.S.C. 5701 note); 40 U.S.C. 121(c).

§ 301-51.200 [Amended]

10. Amend § 301-51.200 by revising paragraph (a)(3) to read as follows:

§ 301-51.200 For what expenses may I receive a travel advance?

Table 1 to § 301-51.200
For | You may receive an advance
(a) * * *
(3) Fuel and other variable expenses covered by the mileage allowance for advantageous use of a privately owned automobile for official business; and
* * * * * * *

PART 302-16—ALLOWANCE FOR MISCELLANEOUS EXPENSES

11. The authority citation for part 302-16 continues to read as follows:

Authority: 5 U.S.C. 5738; 20 U.S.C. 905(a); E.O. 11609, as amended, 3 CFR 1971-1975 Comp., p. 586.

12. Amend § 302-16.2 by revising paragraph (a) and adding an entry for “Rental Car” to the end of the table in paragraph (b) to read as follows:

§ 302-16.2 What are miscellaneous expenses?

* * * * *

(a) Costs associated with relocating that are not covered by other relocation benefits detailed in chapter 302, but are covered by the MEA.

(b) * * *

General expenses | Fees/deposits | Losses
* * * * * * *
Rental car | Rental car fees OCONUS while awaiting shipment of POV, not to exceed 10 days or the delivery of the POV, whichever occurs first

[FR Doc. 2021-19284 Filed 9-10-21; 8:45 am]

BILLING CODE 6820-14-P